ENVIRONMENTAL PROTECTION AGENCY

[OPP-2002-0056; FRL-7176-6]

Request for Public Comment on Proposed Consent Decree Involving Pesticides and the Endangered Species Act

AGENCY: Environmental Protection Agency (EPA).

ACTION: Notice.

SUMMARY: EPA is making available for comment a proposed consent decree that would establish a series of deadlines for the Agency to begin consulting with the U.S. Fish and Wildlife Service (FWS) and the National Marine Fisheries Service (NMFS) relative to certain pesticide uses and their potential effects on certain plant and fish species listed as threatened or endangered. EPA will evaluate all comments received during the public comment period to determine whether all or part of the proposed consent decree warrants reconsideration. This proposed consent decree, if entered by the Court, would resolve a lawsuit brought against EPA under the Endangered Species Act (ESA), by Californians for Alternatives to Toxics (CATs), the Environmental Protection Information Center, Inc., and the Humboldt Watershed Council (jointly, Plaintiffs).

DATES: Comments, identified by docket ID number OPP-2002-0056, must be received on or before May 29, 2002.

ADDRESSES: Comments may be submitted by mail, electronically, or in person. Please follow the detailed instructions for each method as provided in Unit I. of the SUPPLEMENTARY INFORMATION. To ensure proper receipt by EPA, it is imperative that you identify docket ID number OPP-2002-0056 in the subject line on the first page of your response.

FOR FURTHER INFORMATION CONTACT: Arty Williams, Field and External Affairs Division, (7506C), Office of Pesticide Programs, Environmental Protection Agency, 1200 Pennsylvania Ave., NW., Washington, DC 20460; telephone number: (703) 305-5239; fax number: (703) 308-3259; e-mail address: williams.arty@epa.gov.

SUPPLEMENTARY INFORMATION:

I. General Information

A. Does this Action Apply to Me?

This action is directed to the public in general. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

The proposed consent decree and other relevant documents are available electronically on EPA's web site http://www.epa.gov/pesticides under both headings, “What's New?” and “Open Comment Periods.”

2. In person. The Agency has established an official record for this action under docket ID number OPP-2002-0056. The official record consists of the documents specifically referenced in this action, any public comments received during an applicable comment period, and other information related to this action. This official record includes the documents that are physically located in the docket, as well as the documents that are referenced in those documents. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0056 in the subject line on the first page of your response. The submission of a comment is construed as a waiver of any CBI claim as to that comment. (See Unit I.D.)

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket ID number OPP-2002-0056. Electronic comments may also be filed online at many Federal Depository Libraries.

D. How Should I Handle CBI that I Want to Submit to the Agency?

Should EPA determine as a result of any comments received during this public comment period that all or part of the proposed consent decree merits reconsideration, EPA will provide the Plaintiffs with a written request for further negotiations and a copy of all comments related to EPA's basis for such negotiations. Therefore, EPA will construe the submission of a comment as a waiver of any CBI claim as to that comment. If you have any questions about CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Background

a. On August 31, 2000, Plaintiffs filed a lawsuit in U.S. District Court for the Northern District of California alleging that EPA failed to comply with ESA sections 7(a)(1) and 7(a)(2), 16 U.S.C. 1536(a)(1)-(2), and with the Fish and Wildlife Act, 16 U.S.C. 742d-1. CATs v. EPA, Case No. C00-3150 CW (N.D. Calif.). The Plaintiffs filed an amended complaint on November 13, 2000.

b. In March of 2001, the parties participated in a court-ordered mediation. For several months following the mediation, the parties engaged in extensive discussions in hopes of settling this litigation.

c. On April 19, 2002, EPA reached an agreement with the Plaintiffs. The agreement is embodied in a proposed consent decree. The proposed Consent Decree sets a series of deadlines for initiating a number of consultations with the FWS and the NMFS relative to certain pesticide uses and their potential effects on certain plants and fish, including:

1. Consultation on the effects of certain forest operation uses of registered pesticide products containing the active ingredients atrazine, imazapyr, glyphosate, hexazinone, sulfometuron-methyl, triclopyr butoxyethyl ester, triclopyr triethylammonium, and 2,4-D-2 ethylhexyl ester on 33 listed plants associated with forests in California;

2. Consultation on the effects of certain forest operation uses of registered pesticide products containing the active ingredients imazapyr, sulfometuron-methyl, and triclopyr triethylammonium on six species of listed salmon and steelhead and their designated critical habitat (hereinafter collectively referred to as “salmonids”);

3. Consultation on the effects of certain pesticide uses of registered pesticide products containing the active ingredients acrolein, carbaryl, chlorpyrifos, and diazinon on salmonids;

4. Consultation on the effects of certain pesticide uses of registered pesticide products containing the active ingredients atrazine, bromacil, diuron, and simazine on salmonids;

5. Consultation on the effects of certain pesticide uses of registered pesticide products containing the active ingredients 2,4-D-2 ethylhexyl ester, molinate, oryzalin, and triclopyr butoxyethyl ester on salmonids; and

6. Consultation on the effects of certain pesticide uses of registered pesticide products containing the active ingredients glyphosate, hexazinone, and oxyfluorfen on salmonids.

d. In addition, the proposed consent decree provides that EPA will evaluate, during its ongoing ESA section 7(a)(1) Proactive Conservation Review with FWS and NMFS, how to consider the following topics:

1. Chronic and sublethal effects of pesticides on all life stages of endangered and threatened species;

2. Effects of complete pesticide product formulations, effects of diluents, and adjuvants, and effects of the products of pesticide degradation;

3. How direct and indirect effects of pesticides added to the environmental baseline impact endangered and threatened species;

4. The use of systematic field monitoring in a variety of site conditions, runoff patterns, and application methods to validate transport and persistence models; and

5. Best available scientific evidence.

e. The proposed consent decree also provides that the Plaintiffs may develop a position paper on any or all of the five topics identified in Unit II.d. EPA is offering this same opportunity to the public. EPA will consider any position papers it receives from the Plaintiffs and/or the public within 90 days from the date that a final consent decree is entered by the Court.

f. Beginning on April 29, 2002, EPA opened a 30-day comment period on the proposed consent decree. EPA will use the comments to determine whether all or part of the proposed consent decree warrants reconsideration. If EPA determines that any part of the proposed consent decree warrants reconsideration, EPA will provide the Plaintiffs with a written request for further negotiations and with copies of all comments received in response to this notice. The proposed consent decree shall not be entered with the Court unless the parties can reach agreement on needed changes. If EPA determines that the proposed consent decree does not need to be reconsidered, the terms of the proposed consent decree shall become effective upon entry by the U.S. District Court for the Northern District of California. Once the Consent Decree is entered by the U.S. District Court for the Northern District of California, EPA will publish another Federal Register notice notifying the public of the opportunity to submit position papers on the five topics described in Unit II.d.

List of Subjects

Environmental protection, Endangered species, Pesticides and pests.

Dated: April 25, 2002.
Jay Ellenberger,
Acting Director, Field and External Affairs Division, Office of Pesticide Programs.

[FR Doc. 02-10725 Filed 4-29-02; 8:45 am]

BILLING CODE 6560-50-S